SMALL BUSINESS ADMINISTRATION

[Declaration of Economic Injury Disaster #9Q62]

State of Oklahoma

Muskogee and Sequoyah Counties and the contiguous Counties of Adair, Cherokee, Haskell, LeFlore, McIntosh, Okmulgee and Wagoner Counties in the State of Oklahoma; and Crawford and Sebastian Counties in the State of Arkansas constitute an economic injury disaster loan area as a result of the catastrophic collapse of the I-40 Bridge over the Arkansas River on May 26, 2002. Eligible small businesses and small agricultural cooperatives without credit available elsewhere may file applications for economic injury assistance as a result of this disaster until the close of business on April 22, 2003 at the address listed below or other locally announced locations:

U.S. Small Business Administration, Disaster Area 3 Office, 4400 Amon Carter Blvd., Suite 102, FT. Worth, TX 76155.

The interest rate for eligible small businesses and small agricultural cooperatives is 3.5 percent.

The number assigned for economic injury for this disaster is 9Q6200 for the State of Oklahoma and 9Q6300 for the State of Arkansas.

(Catalog of Federal Domestic Assistance Program No. 59002.)
Dated: July 22, 2002.
Hector V. Barreto,
Administrator.

[FR Doc. 02-18977 Filed 7-25-02; 8:45 am]

BILLING CODE 8025-01-P